FEDERAL COMMUNICATIONS COMMISSION

47 CFR Parts 1 and 64

[WC Docket No. 24-213, MD Docket No. 10-234; FCC 24-135; FR ID 329283]

Improving the Effectiveness of the Robocall Mitigation Database; CORES Registration System

AGENCY: Federal Communications Commission.

ACTION: Final rule; announcement of effective date.

SUMMARY: In this document, the Federal Communications Commission (Commission) announces that the Office of Management and Budget (OMB) has approved the information collections associated with the amendments to § 1.8002(b)(2) under OMB Control Number 3060-0918 and the amendments to § 64.6305(h) under OMB Control Number 3060-1285 adopted by the Report and Order, FCC 24-135, 91 FR 343. This document is consistent with the Report and Order, which states that Commission will publish a document in the Federal Register announcing the effective dates of the delayed amendments.

DATES: The amendments to §§ 1.8002(b)(2) and 64.6305(h), published at 91 FR 343 on January 6, 2026, are effective February 5, 2026. The initial compliance date for the annual recertification requirement under § 64.6305(h) is March 1, 2026.

FOR FURTHER INFORMATION CONTACT: For additional information on this proceeding, contact Merry Wulff, Competition Policy Division, Wireline Competition Bureau, at (202) 418-1084, or email: merry.wulff@fcc.gov.

SUPPLEMENTARY INFORMATION: This document announces that OMB approved the information collection requirements associated with the amendments to §§ 1.8002(b)(2) and 64.5305(h) on May 27, 2025 and August 11, 2025, respectively. The amendments to these rules were adopted in the Report and Order, FCC 24-135, published at 91 FR 343 on January 6, 2026. The Commission publishes this document as an announcement of the effective date of February 5, 2026.

Synopsis

As required by the Paperwork Reduction Act of 1995 (44 U.S.C. 3507), the FCC is notifying the public that it received final OMB approval for the information collection requirements contained in §§ 1.8002(b)(2) and 64.6305(h) on May 27, 2025, and August 11, 2025, respectively. Further, the FCC is notifying the public that the amendments to §§ 1.8002(b)(2) and 64.6305(h) are effective February 5, 2026. Under 5 CFR 1320, an agency may not conduct or sponsor a collection of information unless it displays a current, valid OMB Control Number.

No person shall be subject to any penalty for failing to comply with a collection of information subject to the Paperwork Reduction Act that does not display a current, valid OMB Control Number. The OMB Control Numbers are 3060-0918 and 3060-1285.

The foregoing notice is required by the Paperwork Reduction Act of 1995 (Pub. L. 104-13) October 1, 1995, and 44 U.S.C. 3507.

Federal Communications Commission.
Marlene Dortch,
Secretary.

[FR Doc. 2026-02311 Filed 2-4-26; 8:45 am]

BILLING CODE 6712-01-P